OFFICE OF PERSONNEL MANAGEMENT

Excepted Service

AGENCY: Office of Personnel Management.

ACTION: Notice.

SUMMARY: This gives notice of OPM decisions, granting authority to make appointments under Schedules A, B and C in the excepted service as required by 5 CFR 6.6 and 213.103.

FOR FURTHER INFORMATION CONTACT: Deborah Grade, Acting Director, Washington Services Branch, Center for Talent Services, Division for Human Products and Services, (202) 606-5027.

SUPPLEMENTARY INFORMATION: Appearing in the listing below are the individual authorities established under Schedule A, B and C between May 1, 2003 and May 31, 2003. Future notices will be published on the fourth Tuesday of each month, or as soon as possible thereafter. A consolidated listing of all authorities as of June 30 is published each year.

Schedule A

No Schedule A's for May 2003.

Schedule B

No Schedule B's for May 2003.

Schedule C

The following Schedule C authorities were established during May 2003:

Department of Agriculture

Director for Tobacco Programs to the Deputy Administrator. Effective May 7, 2003.

Confidential Assistant to the Deputy Secretary. Effective May 15, 2003.

Special Assistant to the Director for Intergovernmental Affairs. Effective May 16, 2003.

Department of Commerce

Special Assistant to the Director for the Executive Secretariat. Effective May 9, 2003.

Confidential Assistant to the Director for the Executive Secretariat. Effective May 16, 2003.

Speechwriter to the Director for Speechwriting. Effective May 27, 2003.

Confidential Assistant to the Special Assistant to the Chief of Staff. Effective May 30, 2003.

Senior Counsel to the Under Secretary for Intellectual Property and Director for U.S. Patent and Trademark Office. Effective May 30, 2003.

Department of Defense

Staff Assistant to the Deputy Under Secretary for Defense (Special Plans and Near East/South Asian Affairs). Effective May 2, 2003.

Staff Assistant to the Deputy Under Secretary for Defense (Special Plans and Near East/South Asian Affairs). Effective May 7, 2003.

Administrative Assistant to the Special Assistant to the Secretary of Defense for White House Liaison. Effective May 7, 2003.

Defense Fellow to the Special Assistant to the Secretary of Defense for White House Liaison. Effective May 7, 2003.

Defense Fellow to the Special Assistant to the Secretary and Deputy Secretary for Defense. Effective May 27, 2003.

Department of Education

Confidential Assistant to the Chief of Staff. Effective May 6, 2003.

Confidential Assistant to the Special Assistant (Executive Assistant). Effective May 19, 2003.

Director for White House Liaison to the Chief of Staff. Effective May 23, 2003.

Confidential Assistant to the Deputy Assistant Secretary. Effective May 27, 2003.

Department of Energy

Special Assistant to the Director for Public Affairs. Effective May 2, 2003.

Special Assistant to the Director for Scheduling and Advance. Effective May 5, 2003.

Special Assistant to the Assistant Secretary for International Affairs. Effective May 7, 2003.

Congressional Relations Specialist to the Deputy Administrator for Defense Programs, National Nuclear Security Administration. Effective May 9, 2003.

Special Assistant to the Director for Public Affairs. Effective May 9, 2003.

Director for Climate Change Policy to the Deputy Assistant Secretary for National Energy Policy. Effective May 30, 2003.

Department of Health and Human Services

Special Assistant to the Chief of Staff. Effective May 13, 2003.

Special Assistant to the Assistant Secretary for Aging (Commissioner for Aging). Effective May 14, 2003.

Department of Homeland Security Agency

Deputy Press Secretary to the Assistant Secretary for Public Affairs. Effective May 5, 2003.

Associate Executive Secretary (External Coordination) to the Executive Secretary. Effective May 9, 2003.

Deputy White House Liaison to the White House Liaison. Effective May 13, 2003.

Executive Assistant to the Executive Director for Homeland Security Advisory Council. Effective May 16, 2003.

Advance Representative to the Deputy Chief of Staff (Operations). Effective May 28, 2003.

Department of Housing and Urban Development

Staff Assistant to the Assistant Secretary for Congressional\Intergovernmental Relations. Effective May 13, 2003.

Staff Assistant to the Director for Executive Scheduling and Operations. Effective May 15, 2003.

Legislative Specialist to the Assistant Secretary for Congressional and Intergovernmental Relations. Effective May 22, 2003.

Department of Justice

Attorney Advisor (Special Assistant) to the Assistant Attorney General for the Environment and Natural Resources Division. Effective May 19, 2003.

Counsel to the Assistant Attorney General (Civil Division). Effective May 19, 2003.

Counsel to the Assistant Attorney General (Legal Policy). Effective May 19, 2003.

Department of Labor

Special Assistant to the Executive Assistant to the Secretary. Effective May 8, 2003.

Regional Representative to the Assistant Secretary for Congressional and Intergovernmental Affairs. Effective May 13, 2003.

Special Assistant to the Assistant Secretary for Employment Standards. Effective May 22, 2003.

Department of the Navy (DOD)

Confidential Assistant to the Assistant Secretary of the Navy for Research, Development and Acquisition. Effective May 7, 2003.

Department of State

Staff Assistant to the Under Secretary for Management. Effective May 6, 2003.

Senior Advisor to the Assistant Secretary for Near Eastern and South Asian Affairs. Effective May 7, 2003.

Special Assistant to the Assistant Secretary for African Affairs. Effective May 13, 2003.

Staff Assistant to the Assistant Secretary for East Indian and Pacific Affairs. Effective May 16, 2003.

Special Assistant to the Under Secretary for Economic, Business and Agricultural Affairs. Effective May 16, 2003.

Legislative Management Officer to the Assistant Secretary for Legislative and Intergovernmental Affairs. Effective May 28, 2003.

Special Advisor to the Assistant Secretary for International Organizational Affairs. Effective May 28, 2003.

Department of Transportation

Counselor to the Assistant Secretary for Aviation and International Affairs. Effective May 2, 2003.

Department of the Treasury

Senior Advisor to the Deputy Assistant Secretary for Management and Budget. Effective May 19, 2003.

Special Assistant to the Deputy Assistant Secretary and Chief Human Capital Officer. Effective May 28, 2003.

Federal Mine Safety and Health Review Commission

Confidential Assistant to the Chairman. Effective May 22, 2003.

National Endowment for the Arts

General Counsel to the Chairman of the National Endowment of the Arts. Effective May 14, 2003.

National Transportation Safety Board

Special Assistant to the Vice Chairman. Effective May 5, 2003.

Confidential Assistant to the Vice Chairman. Effective May 5, 2003.

Office of Management and Budget

Public Affairs Specialist to the Associate Director for Communications. Effective May 13, 2003.

Office of National Drug Control Policy

Associate Deputy Director to the Deputy Director for State and Local Affairs. Effective May 22, 2003.

Office of Personnel Management

Special Assistant to the Director for Communications. Effective May 15, 2003.

Confidential Assistant to the Director for Congressional Affairs. Effective May 23, 2003.

Securities and Exchange Commission

Managing Executive for External Affairs to the Chairman of Security and Exchange Commission. Effective May 2, 2003.

Small Business Administration

Director of Intergovernmental Affairs to the Associate Administrator for Communications and Public Liaison. Effective May 13, 2003.

Director, Executive Secretariat to the Chief of Staff. Effective May 28, 2003.

United States Tax Court

Secretary (Confidential Assistant) to a Chief Judge. Effective May 14, 2003.

Secretary (Confidential Assistant) to a Judge. Effective May 20, 2003.

Secretary (Confidential Assistant) to a Chief Judge. Effective May 20, 2003.

Secretary (Confidential Assistant) to a Chief Judge. Effective May 30, 2003.

United States Trade and Development Agency

Public Affairs Specialist to the Director. Effective May 19, 2003.

Authority: 5 U.S.C. 3301 and 3302; E.O. 10577, 3 CFR 1954-1958 Comp., P.218.

Office of Personnel Management.
Kay Coles James,
Director.

[FR Doc. 03-18498 Filed 7-21-03; 8:45 am]

BILLING CODE 6325-38-P